DEPARTMENT OF DEFENSE

Office of the Secretary

[Docket ID: DoD-2015-OS-0098]

Proposed Collection; Comment Request; Withdrawal

AGENCY: Office of the Under Secretary of Defense for Personnel and Readiness/National Security Education Program, DoD.

ACTION: Notice; withdrawal.

SUMMARY: On Friday, October 16, 2015 (80 FR 62523), the Department of Defense published a notice titled “Proposed Collection; Comment Request” for National Language Service Corps; DD Forms 2932, 2933, and 2934; OMB Control Number 0704-0449. Subsequent to the publication of the notice, the Department of Defense discovered that the notice was unnecessary as public comment had already been solicited in the preamble of the proposed rule that published in the Federal Register on Tuesday, February 24, 2015 (80 FR 9669-9673).

DATES: The withdrawal of the notice is effective on October 27, 2015.

Dated: October 22, 2015.
Aaron Siegel,
Alternate OSD Federal Register Liaison Officer, Department of Defense.

[FR Doc. 2015-27317 Filed 10-26-15; 8:45 am]

BILLING CODE 5001-06-P